OFFICE OF PERSONNEL MANAGEMENT

Excepted Service

AGENCY: U.S. Office of Personnel Management (OPM).

ACTION: Notice.

SUMMARY: This gives notice of OPM decisions granting authority to make appointments under Schedules A, B, and C in the excepted service as required by 5 CFR 6.6 and 213.103.

FOR FURTHER INFORMATION CONTACT: C. Penn, Group Manager, Executive Resources Services Group, Center for Human Resources, Division for Human Capital Leadership and Merit System Accountability, 202-606-2246.

SUPPLEMENTARY INFORMATION: Appearing in the listing below are the individual authorities established under Schedules A, B, and C between March 1, 2008, and March 31, 2008. Future notices will be published on the fourth Tuesday of each month, or as soon as possible thereafter. A consolidated listing of all authorities as of June 30 is published each year.

Schedule A

No Schedule A appointments were approved for March 2008.

Schedule B

No Schedule B appointments were approved for March 2008.

Schedule C

The following Schedule C appointments were approved during March 2008.

Section 213.3303 Executive Office of the President

Office of Management and Budget

BOGS80003 Deputy to the Associate Director for Legislative Affairs. Effective March 10, 2008.

Section 213.3304 Department of State

DSGS61259 Public Affairs Specialist to the Principal Deputy Assistant Secretary. Effective March 06, 2008.

DSGS69726 Protocol Officer to the Foreign Affairs Officer (Visits). Effective March 11, 2008.

DSGS61040 Staff Assistant to the Deputy Assistant Secretary. Effective March 19, 2008.

DSGS69727 Special Assistant to the Deputy Assistant Secretary. Effective March 26, 2008.

DSGS69728 Legislative Management Officer to the Deputy Assistant Secretary. Effective March 26, 2008.

Section 213.3305 Department of the Treasury

DYGS60401 Special Assistant to the Chief of Staff. Effective March 07, 2008.

DYGS60307 Senior Advisor to the Treasurer of the United States. Effective March 14, 2008.

DYGS60381 Special Assistant to the Deputy Assistant Secretary for Legislative Affairs (International). Effective March 25, 2008.

Section 213.3306 Department of Defense

DDGS17137 Special Assistant to the Assistant Secretary of Defense (Legislative Affairs). Effective March 06, 2008.

DDGS17138 Special Assistant to the Principal Deputy Assistant Secretary of Defense (Asian and Pacific Security Affairs). Effective March 06, 2008.

DDGS17139 Special Assistant to the Assistant Secretary of Defense (Legislative Affairs). Effective March 06, 2008.

DDGS17140 Public Affairs Analyst to the Public Affairs Specialist. Effective March 06, 2008.

DDGS17142 Defense Fellow to the Special Assistant to the Secretary of Defense for White House Liaison. Effective March 07, 2008.

DDGS17141 Special Assistant for Research to the Supervisory Speechwriter. Effective March 10, 2008.

DDGS17136 Special Assistant to the Assistant Secretary of Defense (Special Operations/Low Intensity Conflict and Interdependent Capabilities). Effective March 18, 2008.

DDGS17143 Defense Fellow to the Special Assistant to the Secretary of Defense for White House Liaison. Effective March 20, 2008.

DDGS17144 Personal and Confidential Assistant to the Under Secretary of Defense (Comptroller). Effective March 20, 2008.

Section 213.3307 Department of the Army

DWGS00092 Special Assistant to the General Counsel. Effective March 07, 2008.

DWGS00090 Special Assistant to the General Counsel. Effective March 10, 2008.

DWGS00095 Personal and Confidential Assistant (Installations and Environment) to the Assistant Secretary of the Army (Installations and Environment). Effective March 14, 2008.

DWGS00096 Personal and Confidential Assistant to the Deputy Under Secretary of the Army. Effective March 14, 2008.

Section 213.3308 Department of the Navy

DNGS08115 Staff Assistant (Policy) to the Deputy Under Secretary of the Navy. Effective March 31, 2008.

DNGS08116 Staff Assistant (Policy) to the Deputy Under Secretary of the Navy. Effective March 31, 2008.

Section 213.3309 Department of the Air Force

DFGS00011 Director for Strategic Initiatives to the Assistant Secretary (Financial Management and Comptroller). Effective March 04, 2008.

DFGS60047 Financial Management Specialist to the Assistant Secretary (Financial Management and Comptroller). Effective March 04, 2008.

Section 213.3310 Department of Justice

DJGS00204 Senior Counsel to the Deputy Attorney General. Effective March 07, 2008.

DJGS00086 Senior Press Assistant to the Director, Office of Public Affairs. Effective March 14, 2008.

DJGS00081 Special Assistant to the Chairman Effective March 21, 2008.

DJGS00106 Special Assistant and Media Affairs Coordinator to the Assistant Attorney General. Effective March 21, 2008.

DJGS00318 Press Assistant to the Director, Office of Public Affairs. Effective March 21, 2008.

DJGS00084 Senior Counsel to the Assistant Attorney General Environment and Natural Resources. Effective March 26, 2008.

DJGS00082 Special Assistant to the Assistant Attorney General Environment and Natural Resources. Effective March 28, 2008.

Section 213.3311 Department of Homeland Security

DMGS00523 Special Assistant to the Assistant Secretary, Immigration and Customs Enforcement. Effective March 21, 2008.

Section 213.3312 Department of the Interior

DIGS01116 Special Assistant to the Director, External and Intergovernmental Affairs. Effective March 05, 2008.

DIGS01118 Special Assistant—Scheduling and Advance to the Director—Scheduling and Advance. Effective March 20, 2008.

DIGS01119 Special Assistant—Fish and Wildlife and Parks to the Special Assistant. Effective March 20, 2008.

DIGS01120 Special Assistant to the Director—Scheduling and Advance. Effective March 20, 2008.

DIGS01117 Director of Scheduling and Advance to the Chief of Staff. Effective March 27, 2008.

Section 213.3313 Department of Agriculture

DAGS00938 Director of Communications and Governmental Affairs to the Administrator, Food and Nutrition Service. Effective March 11, 2008.

DAGS00937 Chief of Staff to the Chief, Natural Resources Conservation Service. Effective March 12, 2008.

DAGS00936 Special Assistant to the Administrator, Rural Housing Service. Effective March 14, 2008.

DAGS00939 Staff Assistant to the Director of External Affairs. Effective March 26, 2008.

DAGS00940 Special Assistant to the Administrator. Effective March 26, 2008.

Section 213.3314 Department of Commerce

DCGS00469 Deputy Director to the Director Office of White House Liaison. Effective March 11, 2008.

DCGS60321 Director of Public Affairs to the Under Secretary for International Trade. Effective March 11, 2008.

DCGS00435 Confidential Assistant to the Deputy Secretary. Effective March 14, 2008.

DCGS60532 Senior Counsel to the General Counsel. Effective March 14, 2008.

Section 213.3315 Department of Labor

DLGS60132 Senior Advisor to the Associate Deputy Secretary. Effective March 04, 2008.

DLGS60135 Agency Liaison Officer to the Executive Secretary. Effective March 04, 2008.

DLGS60015 Intergovernmental Assistant to the Assistant Secretary for Congressional and Intergovernmental Affairs. Effective March 13, 2008.

DLGS60260 Staff Assistant to the Director, 21st Century Office and Deputy Assistant Secretary for Intergovernmental Affairs. Effective March 13, 2008.

DLGS60175 Special Assistant to the Counselor In the Office of the Secretary. Effective March 28, 2008.

Section 213.3316 Department of Health and Human Services

DHGS60011 Special Assistant to the Commissioner of Food and Drugs. Effective March 04, 2008.

DHGS60374 Confidential Assistant to the Executive Secretary to the Department. Effective March 11, 2008.

Section 213.3317 Department of Education

DBGS00467 Director, Faith-Based and Community Initiatives Center to the Chief of Staff. Effective March 04, 2008.

DBGS00262 Confidential Assistant to the Special Assistant. Effective March 05, 2008.

DBGS00626 Confidential Assistant to the Special Assistant. Effective March 13, 2008.

DBGS00200 Special Assistant to the Special Assistant. Effective March 21, 2008.

Section 213.3325 United States Tax Court

JCGS60066 Trial Clerk to the Chief Judge. Effective March 07, 2008.

Section 213.3331 Department of Energy

DEGS00642 Special Assistant to the Assistant Secretary (Electricity Delivery and Energy Reliability). Effective March 10, 2008.

DEGS00641 Special Assistant to the Assistant Secretary (Electricity Delivery and Energy Reliability). Effective March 11, 2008.

DEGS00644 Senior Advisor for Intergovernmental Affairs to the Director of Congressional Intergovernmental and Public Affairs. Effective March 19, 2008.

DEGS00645 Deputy Press Secretary to the Director, Public Affairs. Effective March 19, 2008.

Section 213.3332 Small Business Administration

SBGS00655 Director of Scheduling to the Chief of Staff. Effective March 13, 2008.

SBGS00657 Counselor to the Deputy Administrator Effective March 26, 2008.

SBGS00660 Research Analyst to the Deputy Associate Administrator for Office of Communications and Public Liaison. Effective March 25, 2008.

SBGS00662 Deputy Assistant Administrator for Congressional and Legislative Affairs to the Assistant Administrator for Congressional and Legislative Affairs. Effective March 26, 2008.

SBGS00663 Assistant Administrator for Policy and Strategic Planning to the Chief of Staff. Effective March 26, 2008.

SBGS00665 Congressional Liaison to the Assistant Administrator for Congressional and Legislative Affairs. Effective March 26, 2008.

SBGS00664 Senior Advisor to the Administrator to the Chief of Staff. Effective March 28, 2008.

Section 213.3337 General Services Administration

GSGS60100 Deputy Associate Administrator for Performance Improvement to the Associate Administrator for Performance Improvement. Effective March 28, 2008.

Section 213.3342 Export-Import Bank

EBGS44070 Administrative Assistant to the Member Board of Directors. Effective March 07, 2008.

Section 213.3379 Commodity Futures Trading Commission

CTOT00089 Administrative Assistant to the Commissioner. Effective March 26, 2008.

Section 213.3391 Office of Personnel Management

PMGS30993 Special Assistant to the Director, Office of Communications and Public Liaison. Effective March 24, 2008.

PMGS30995 Special Assistant to the Director, Office of Communications and Public Liaison. Effective March 24, 2008.

Section 213.3392 Federal Labor Relations Authority

FAGS00001 Management Assistant to the Chairman. Effective March 14, 2008.

Section 213.3394 Department of Transportation

DTGS60237 Press Secretary to the Assistant to the Secretary and Director of Public Affairs. Effective March 11, 2008.

DTGS60017 Assistant to the Secretary for Policy to the Secretary. Effective March 26, 2008.

Authority: 5 U.S.C. 3301 and 3302; E.O. 10577, 3 CFR 1954-1958 Comp., p. 218.

Office of Personnel Management.
Howard C. Weizmann,
Deputy Director.

[FR Doc. E8-10221 Filed 5-7-08; 8:45 am]

BILLING CODE 6325-39-P